COMMISSION ON CIVIL RIGHTS

Agenda and Notice of Public Meeting of the Wyoming Advisory Committee

AGENCY: Commission on Civil Rights.

ACTION: Announcement of meeting.

SUMMARY: Notice is hereby given, pursuant to the provisions of the rules and regulations of the U.S. Commission on Civil Rights (Commission), and the Federal Advisory Committee Act (FACA) that a planning meeting of the Wyoming Advisory Committee to the Commission will convene at 12:00 p.m. (MDT) on Saturday, July 28, 2018, in the Windflower Room, Library, Cheyenne. The purpose of the meeting is to review potential civil rights topics for future study in the state.

DATES: Saturday, July 28, 2018, at 12:00 p.m. (MDT).

ADDRESSES: Windflower Room, Public Library, Cheyenne.

FOR FURTHER INFORMATION CONTACT: Evelyn Bohor at ebohor@usccr.gov, or 303-866-1040.

SUPPLEMENTARY INFORMATION: Persons who plan to attend the meeting and who require other accommodations, please contact Evelyn Bohor at ebohor@usccr.gov at the Rocky Mountain Regional Office at least ten (10) working days before the scheduled date of the meeting.

Members of the public are invited to submit written comments; the comments must be received in the regional office by Tuesday, August 28, 2018. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at (303) 866-1040.

The activities of this advisory committee, including records and documents discussed during the meeting, will be available for public viewing, as they become available at: https://database.faca.gov/committee/meetings.aspx?cid=283. Records generated from this meeting may also be inspected and reproduced at the Rocky Mountain Regional Office, as they become available, both before and after the meeting. Persons interested in the work of this advisory committee are advised to go to the Commission's website, www.usccr.gov, or to contact the Rocky Mountain Regional Office at the above phone number, email or street address.

Agenda

Discussion of Potential Civil Rights topics

Open Comment

Adjourn

Dated: July 9, 2018.
David Mussatt,
Supervisory Chief, Regional Programs Unit.

[FR Doc. 2018-14966 Filed 7-12-18; 8:45 am]

BILLING CODE P